DEPARTMENT OF DEFENSE

Department of the Army

Notice of Availability (NOA) for the Record of Decision (ROD) for the Transformation of the 2nd Brigade, 25th Infantry Division (Light) to a Stryker Brigade Combat Team (SBCT) in Hawaii

AGENCY: Department of the Army, DoD.

ACTION: Notice of availability.

SUMMARY: The Department of the Army announces the availability of its ROD for the Transformation of the 2nd Brigade, 25th Infantry Division (Light) to an SBCT in Hawaii. On May 25, 2004, the Army published a notice of availability of its Final Environmental Impact Statement (EIS) that considered the environmental consequences of the proposed action and alternatives. The ROD describes the Army's decision with respect to the proposed action and alternatives considered in the EIS and its rationale for the decision. Based on the EIS and other relevant factors, the Army has decided to implement its proposed actions. This decision allows the Army to proceed with transformation of the 2nd Brigade to an SBCT. The decision includes training to be conducted at Schofield Barracks Military Reservation (SBMR), Dillingham Military Reservation, Kahuku Training Area and Kawailoa Training Area on the island of Oahu and at Pōhakuloa Training Area (PTA) on the island of Hawaii. Twenty-eight projects are proposed that would improve the existing support structure and facilities to provide the necessary field training required for the SBCT. These projects include construction of ranges, airfield upgrades, land acquisition, and new equipment such as new and modernized vehicles (namely the Stryker, an eight-wheeled, 20-ton combat vehicle) and weapons systems (105mm cannon, 155mm howitzer, and 120mm mortar). The number of soldiers and vehicles stationed at SBMR also would increase. The Army would acquire land on the island of Oahu (approximately 1,400 acres) and on the island of Hawaii (approximately 23,000 acres) for training areas and road construction.

The decision also affirms the Army's commitment to implementing a series of mitigation and monitoring measures to offset potential adverse environmental impacts associated with the proposed action, as identified in the Final EIS.

ADDRESSES: Any questions or requests for copies of the Army's ROD may be submitted to Mr. Ron Borne, Transformation Office, U.S. Army Garrison—Hawaii, 2nd Floor Building 105, 572 Santos Dumont Avenue, Wheeler Army Airfield, HI 96857-5013.

FOR FURTHER INFORMATION CONTACT: Mr. Ron Borne at (808) 656-0255 or by e-mail at SBCT EIS@poh01.usace.army.mil.

SUPPLEMENTARY INFORMATION: The Department of the Army prepared the EIS for Transformation of the 2nd Brigade, 25th Infantry Division (Light) to an SBCT in Hawaii. The EIS was prepared to address proposed actions affecting the islands of Oahu and Hawaii. The EIS identified the relevant environmental and socioeconomic impacts of the proposed action and alternatives on the biological, physical, and cultural environment.

The Army has designated the 2nd Brigade to be converted to an SBCT under the Army's efforts to incorporate future force capabilities into the Army's current force. Implementing the Proposed Action as defined in the Final EIS will require undertaking several distinct but coordinated actions and activities directly associated with transforming the 2nd Brigade. These various actions that make up the Proposed Action will include stationing personnel, fielding Stryker systems and other SBCT-specific materiel, building new facilities, acquiring new land and additional easements, and conducting SBCT-specific training.

Transformation of the 2nd Brigade will involve an increase in approximately 810 Soldiers; the addition of approximately 291 Stryker vehicles along with support vehicles; the construction of new, additional, or modified ranges, facilities and infrastructure; and acquisition of approximately 1,400 acres of additional training lands on the island of Oahu and 23,000 acres on the island of Hawaii. The Shadow Tactical Unmanned Aerial Vehicle will also be fielded to the 2nd Brigade to support reconnaissance, surveillance and target acquisition missions. Upon conversion, the 2nd Brigade will be better organized, manned and equipped to respond to the range of emerging threats and circumstances that the Army is likely to encounter in current and future operations around the world.

In making its decision, the Army considered the analysis of effects contained in the EIS, assessment of the alternatives in relationship to the primary issues of concern, comments provided during formal public review periods, and Army-wide transformation, national security and mission requirements. The Army determined that the proposed action best meets its underlying purpose and need, and that the proposed action reflects a proper balance between mission imperatives and goals for protection of the environment.

The Final EIS provides detailed evaluation of the Proposed Action and the Reduced Land Acquisition (RLA) and No Action Alternatives. After weighing all these considerations, the No Action Alternative is the environmentally preferred alternative. Under the No Action Alternative, the Army would not undertake the proposed conversion of the 2nd Brigade to an SBCT in Hawaii. The 2nd Brigade would retain its current force structure and equipment while continuing to train and operate as a conventional light infantry force. Three environmentally significant impacts, primarily due to Army training activities, would remain: noise at SBMR; the threat of wildland fires to biological resources at SBMR and PTA; and cumulative impacts from the threat of wildland fires to biological resources on the islands of Oahu and Hawaii. However, the No Action Alternative does not satisfy any aspects of the stated purpose and need, which are in furtherance of the Army's national defense mission.

The Proposed Action was selected over the RLA Alternative for several reasons. While the environmental impacts of the Proposed Action and the RLA Alternative are virtually identical, the Proposed Action is superior to the RLA because constructing the multipurpose Qualification Training Range (QTR2) in the South Range Acquisition Area near the concentration of Soldiers at SBMR facilitates individual weapons qualification at the home station, which is consistent with Army training guidance. Because most Soldiers are stationed on Oahu, it is more efficient to conduct individual weapons qualification training close to home station. Individual qualification is conducted semi-annually and is required for all Soldiers, even those that are not assigned to units that routinely deploy to PTA. The Proposed Action assures adequate throughput capacity for conducting individual qualification on Oahu. On the other hand, conducting individual weapons qualification training at a QTR2 at PTA results in greater logistical and safety issues from scheduling training and arranging transport of Soldiers and weapons to the Island of Hawaii. The additional travel requirements would result in greater training costs and require Soldiers to spend even more time away from home station. If units are able to take advantage of scheduled deployments to PTA to accomplish individual weapons qualification, this may not increase training costs, but could result in even more time away from home station. Constructing QTR2 at PTA would pose conflicts with the use of Range 8 and the potential development of an SBCT-specific anti-armor and live-fire tracking range. Acquiring the full acreage in the South Range Acquisition Area (SRAA) partially cures the shortage of Army training lands in Hawaii, provides a buffer to incompatible development along the southern border of SBMR, and provides some additional safety zones for Wheeler Army Airfield's runway. Additionally, based on The Nature Conservancy's comments, changes to the orientation of QTR2 have minimized the impact on access to the Honouliuli Preserve.

Therefore, we select the Proposed Action for implementation. We have fully considered the environmental impacts associated with the Proposed Action. Notwithstanding these impacts, we have decided to implement all facets of the Proposed Action because it best meets the purpose and need for this action and it is critical to achieving current and future national security objectives in U.S. Pacific Command's Area of Responsibility (AOR). This AOR is vital to the security of the United States and key allies. The AOR covers more than 50 percent of earth's surface and traverses 16 times zones. It includes nearly 60 percent of the world's population living in 43 countries. The world's six largest armed forces operate within this AOR: Peoples Republic of China, United States, Russia, India, North Korea, and South Korea. Nations within this AOR are parties to five of the seven worldwide U.S. mutual defense treaties. Additionally, approximately 35 percent of U.S. international trade is transacted within this AOR.

The ROD also commits to the implementation of mitigation and monitoring measures to rectify, reduce, or eliminate adverse effects to land use and recreation, visual resources, air quality, noise, traffic, water resources, geology, soils and seismicity, biological resources, cultural resources, human health and safety, and socioeconomic and Environmental Justice. The mitigation and monitoring measures are defined in the Final EIS.

Copies of the SBCT ROD are available for review at the following libraries: Hilo Public Library, 300 Waianuenue Avenue, Hilo; Kailua-Kona Public Library, 75-138 Hualalai Road, Kailua-Kona; Thelma Parker Memorial Public and School Library, 96767-1209 Mamalahoa Hwy., Kamuela; Kahuku Public and School Library, 56-490 Kamehameha Hwy., Kahuku; Mililani Public Library, 95-450 Makaimoimo Street, Mililani; Hawaii State Library, 478 South King St., Honolulu; Wahiawa Public Library, 820 California Avenue, Wahiawa; Waianae Public Library, 85-625 Farrington Hwy., Waianae; Waialua Public Library, 67-068 Kealohanui Street, Waialua; UH Environmental Center, Krauss Annex 19, 2500 Dole Road, Honolulu.

The Record of Decision may also be reviewed at the SBCT Web site http://www.SBCTEIS.com.

Dated: September 2, 2004.
Raymond J. Fatz,
Deputy Assistant Secretary of the Army, (Environment, Safety and Occupational Health) OASA(I&E).

[FR Doc. 04-20511 Filed 9-9-04; 8:45 am]

BILLING CODE 3710-08-M